DEPARTMENT OF TRANSPORTATION

Office of the Secretary, Federal Aviation Administration

[Docket No. OST-20001-9849]

Notice of Market-based Actions To Relieve Airport Congestion and Delay; Indefinite Suspension of the Closing Date of the Comment Period

AGENCY: Office of the Secretary, DOT, Federal Aviation Administration, DOT.

ACTION: Notice to suspend until further notice the closing date of the comment period on market-based actions to relieve airport congestion and delay.

SUMMARY: In a notice published on August 21, 2001, the DOT requested comments on the possible role, feasibility, and effectiveness of using market-based approaches to relieve airline flight delays and congestion at busy airports. The comment period is scheduled to close on November 19, 2001. This notice suspends the closing date of the comment period until further notice.

FOR FURTHER INFORMATION CONTACT: Larry Phillips, Senior Economic Policy Advisor, 202-366-4868 or Nancy Kessler, Senior Attorney-Advisor, 202-366-9301.

SUPPLEMENTARY INFORMATION:

Background

On August 21, 2001, the DOT issued a “Notice of Market-based Actions to Relieve Airport Congestion and Delay” (66 FR 43947, August 21, 2001). In that notice, respondents were asked to provide comments, information, and/or data to address questions illustrative of the types of considerations the Department was seeking to evaluate, regarding how market-based approaches, as well as administrative actions, could work to relieve congestion at busy airports, including the design, implementation, and impacts of these approaches or actions.

Suspension of the Closing Date of the Comment Period

The terrorist attacks of September 11, 2001 on the World Trade Center and the Pentagon caused the FAA to temporarily cease all non-military flights in the United States and required airports and airlines to adopt certain security measures prior to the resumption of commercial service. In response to the new security requirements and lowered passenger demand, several airlines have reduced the number of aircraft operations below previously planned levels throughout the national airport system. These factors, at least in the short-run, have contributed to a significant decrease in airport congestion at formerly busy airports.

In these circumstances, the Department has determined that it would be reasonable and in the public interest to suspend until further notice the closing date of the comment period for the notice 66 FR 43947, August 21, 2001. At the appropriate time, the Department will publish an advance notice giving the new closing date for comments.

Issued on October 31, 2001 in Washington, DC.
Susan McDermott,
Deputy Assistant Secretary for Aviation and International Affairs, Department of Transportation.
Louise Maillett,
Acting Assistant Administrator for Policy, Planning, and International Aviation, Federal Aviation Administration.

[FR Doc. 01-27740 Filed 11-2-01; 8:45 am]

BILLING CODE 4910-62-P